DEPARTMENT OF VETERANS AFFAIRS

[OMB Control No. 2900-NEW]

Proposed Information Collection (Veterans, Researchers, and IRB Members Experiences With Recruitment Restrictions); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed conduct a study to examine whether current VA Institutional Review Board (IRB) policies pose barriers to recruitment of research study subjects and to explore Veterans views on recruitment procedures.

DATES: Written comments and recommendations on the proposed collection of information should be received on or before December 30, 2013.

ADDRESSES: Submit written comments on the collection of information through the Federal Docket Management System (FDMS) at www.Regulations.gov; or to Cynthia Harvey-Pryor, Veterans Health Administration (10B4), Department of Veterans Affairs, 810 Vermont Avenue NW., Washington, DC 20420 or email: cynthia.harvey-pryor@va.gov. Please refer to “OMB Control No. 2900-NEW (Veterans, Researchers, and IRB Members Experiences with Recruitment Restrictions)” in any correspondence. During the comment period, comments may be viewed online through FDMS.

FOR FURTHER INFORMATION CONTACT: Cynthia Harvey-Pryor at (202) 461-5870 or Fax (202) 495-5397.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Veterans, Researchers, and IRB Members Experiences with Recruitment Restrictions.

OMB Control Number: 2900—NEW (Veterans, Researchers, and IRB Members Experiences with Recruitment Restrictions).

Type of Review: New collection.

Abstracts: The VHA Office of Research Development has launched a Research Best Practices initiative to study ways to improve the conduct of research within the VA. All study data will be analyzed by the investigators using qualitative research methods to understand Veterans' preferences on research recruitment methods. The data will be published in peer-review medical literature and presented at the HSR&D national meeting, if accepted for such.

Affected Public: Individuals or households.

Estimated Annual Burden: 192.

Estimated Average Burden per Respondent: 120 minutes.

Frequency of Response: Once.

Estimated Number of Respondents: 96.

Dated: October 28, 2013.
By direction of the Secretary.
Crystal Rennie,
VA Clearance Officer, Department of Veterans Affairs.

[FR Doc. 2013-25859 Filed 10-30-13; 8:45 am]

BILLING CODE 8320-01-P